FEDERAL HOUSING FINANCE AGENCY

[No. 2012-N-02]

Federal Home Loan Bank Members Selected for Community Support Review

AGENCY: Federal Housing Finance Agency.

ACTION: Notice.

SUMMARY: The Federal Housing Finance Agency (FHFA) is announcing the Federal Home Loan Bank (Bank) members it has selected for the 2010 fifth round review cycle under the FHFA's community support requirements regulation. This notice also prescribes the deadline by which Bank members selected for review must submit Community Support Statements to FHFA.

DATES: Bank members selected for the review cycle under the FHFA's community support requirements regulation must submit completed Community Support Statements to FHFA on or before April 27, 2012.

ADDRESSES: Bank members selected for the 2010 fifth round review cycle under the FHFA's community support requirements regulation must submit completed Community Support Statements to FHFA either by hard-copy mail at the Federal Housing Finance Agency, Ninth Floor, Housing Mission and Goals (DHMG), 400 Seventh Street SW., Washington, DC 20024, or by electronic mail at hmgcommunitysupportprogram@fhfa.gov.

FOR FURTHER INFORMATION CONTACT: Rona Richardson, Office Assistant, Housing Mission and Goals (DHMG), Federal Housing Finance Agency, by telephone at 202-649-3224, by electronic mail at Rona.Richardson@FHFA.gov, or by hard-copy mail at the Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the April 27, 2012 deadline prescribed in this notice. 12 CFR 1290.2(b)(1)(ii) and (c). On or before March 27, 2012, each Bank will notify the members in its district that have been selected for the 2010 fifth round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 fifth round community support review cycle:

Federal Home Loan Bank of Boston—District 1
People's United Bank | Bridgeport | Connecticut.
Farmington Bank | Farmington | Connecticut.
Liberty Bank | Middletown | Connecticut.
Naugatuck Savings Bank | Naugatuck | Connecticut.
Citizens National Bank | Putnam | Connecticut.
Rockville Bank | South Windsor | Connecticut.
The Simsbury Bank and Trust Company | Simsbury | Connecticut.
Savings Institute Bank and Trust Company | Willimantic | Connecticut.
Windsor Federal Savings & Loan Association | Windsor | Connecticut.
Down East Credit Union | Baileyville | Maine.
Ocean Communities Federal Credit Union | Biddeford | Maine.
PeoplesChoice Credit Union | Biddeford | Maine.
The First, N.A. | Damariscotta | Maine.
The Bank of Maine | Gardiner | Maine.
Androscoggin Savings Bank | Lewiston | Maine.
Machias Savings Bank | Machias | Maine.
Katahdin Federal Credit Union | Millinocket | Maine.
Sanford Institution For Savings | Sanford | Maine.
U-Mass Five College Federal Credit Union | Hadley | Massachusetts.
Barre Savings Bank | Barre | Massachusetts.
The Community Bank | Brockton | Massachusetts.
HarborOne Credit Union | Brockton | Massachusetts.
Chicopee Savings Bank | Chicopee | Massachusetts.
Everett Credit Union | Everett | Massachusetts.
Framingham Co-operative Bank | Framingham | Massachusetts.
Dean Co-Operative Bank | Franklin | Massachusetts.
Greenfield Savings Bank | Greenfield | Massachusetts.
Hanscom Federal Credit Union | Hanscom Air Force Base | Massachusetts.
Commonwealth Cooperative Bank | Boston | Massachusetts.
Lee Bank | Lee | Massachusetts.
Mayflower Co-operative Bank | Middleborough | Massachusetts.
Millbury Federal Credit Union | Millbury | Massachusetts.
First Citizen's Federal Credit Union | New Bedford | Massachusetts.
Newburyport Five Savings Bank | Newburyport | Massachusetts.
Norwood Co-Operative Bank | Norwood | Massachusetts.
North Shore Bank, A Co-Operative Bank | Peabody | Massachusetts.
Berkshire Bank | Pittsfield | Massachusetts.
Pittsfield Co-Operative Bank | Pittsfield | Massachusetts.
Central Bank | Somerville | Massachusetts.
Savers Co-Operative Bank | Southbridge | Massachusetts.
Stoneham Co-Operative Bank | Stoneham | Massachusetts.
FamilyFirst Bank | Ware | Massachusetts.
United Bank | West Springfield | Massachusetts.
Weymouth Bank | East Weymouth | Massachusetts.
Winchester Co-Operative Bank | Winchester | Massachusetts.
Bay State Savings Bank | Worcester | Massachusetts.
Claremont Savings Bank | Claremont | New Hampshire.
Meredith Village Savings Bank | Meredith | New Hampshire.
Triangle Credit Union | Nashua | New Hampshire.
Lake Sunapee Bank, FSB | Newport | New Hampshire.
Sugar River Bank | Newport | New Hampshire.
Piscataqua Savings Bank | Portsmouth | New Hampshire.
Service Credit Union | Portsmouth | New Hampshire.
Connecticut River Bank, N.A. | Charlestown | New Hampshire.
Washington Trust Company | Westerly | Rhode Island.
The Bank of Bennington | Bennington | Vermont.
Heritage Family Federal Credit Union | Rutland | Vermont.
Passumpsic Savings Bank | St. Johnsbury | Vermont.
Federal Home Loan Bank of New York—District 2
Clifton Savings Bank | Clifton | New Jersey.
First National Bank of Elmer | Elmer | New Jersey.
Sussex Bank | Franklin | New Jersey.
Skylands Community Bank | Hackettstown | New Jersey.
Haddon Savings Bank | Haddon Heights | New Jersey.
First Hope Bank, A National Banking Association | Hope | New Jersey.
Gibraltar Bank | Mendham | New Jersey.
Magyar Bank | New Brunswick | New Jersey.
Lusitania Savings Bank, FSB | Newark | New Jersey.
New Community Federal Credit Union | Newark | New Jersey.
Franklin Bank | Pilesgrove | New Jersey.
RSI Bank | Rahway | New Jersey.
Roebling Bank | Roebling | New Jersey.
Parke Bank | Sewell | New Jersey.
Monroe Savings Bank, SLA | Williamstown | New Jersey.
Ponce De Leon Federal Bank | Bronx | New York.
Flatbush Federal Savings and Loan Association | Brooklyn | New York.
Manufacturers and Traders Trust Company | Buffalo | New York.
The Bank of Castile | Castile | New York.
Fairport Savings Bank | Fairport | New York.
Fulton Savings Bank | Fulton | New York.
Trustco Bank | Glenville | New York.
Highland Falls Federal Savings & Loan Association | Highland Falls | New York.
Bank of Holland | Holland | New York.
Steuben Trust Company | Hornell | New York.
New York Commercial Bank | Islandia | New York.
Ulster Savings Bank | Kingston | New York.
Astoria Federal Savings & Loan Association | Long Island City | New York.
Suffolk Federal Credit Union | Medford | New York.
First Federal Savings of Middletown | Middletown | New York.
Amalgamated Bank | New York | New York.
Habib American Bank | New York | New York.
Sterling National Bank | New York | New York.
United Orient Bank | New York | New York.
Pittsford Federal Credit Union | Pittsford | New York.
Bank of Richmondville | Richmondville | New York.
The Rome Savings Bank | Rome | New York.
Solvay Bank | Solvay | New York.
Northfield Bank | Staten Island | New York.
Walden Savings Bank | Walden | New York.
Champlain National Bank | Willsboro | New York.
Federal Home Loan Bank of Pittsburgh—District 3
Wilmington Savings Fund Society, FSB | Wilmington | Delaware.
C & G Savings Bank | Altoona | Pennsylvania.
Ambler Savings Bank | Ambler | Pennsylvania.
First Star Bank | Bethlehem | Pennsylvania.
First Federal Savings & Loan Association of Bucks County | Bristol | Pennsylvania.
Alliance Bank | Broomall | Pennsylvania.
Cresson Community Bank | Cresson | Pennsylvania.
Sharon Savings Bank | Darby | Pennsylvania.
ESB Bank | Ellwood City | Pennsylvania.
County Savings Bank | Essington | Pennsylvania.
Stonebridge Bank | Exton | Pennsylvania.
Fox Chase Bank | Hatboro | Pennsylvania.
Hatboro Federal Savings | Hatboro | Pennsylvania.
The Dime Bank | Honesdale | Pennsylvania.
Jersey Shore State Bank | Jersey Shore | Pennsylvania.
William Penn Bank, FSB | Levittown | Pennsylvania.
Third Federal Bank | Newtown | Pennsylvania.
Malvern Federal Savings Bank | Paoli | Pennsylvania.
First Savings Bank of Perkasie | Perkasie | Pennsylvania.
Asian Bank | Philadelphia | Pennsylvania.
Second Federal Savings & Loan Association of Philadelphia | Philadelphia | Pennsylvania.
St. Edmond's, FSB | Philadelphia | Pennsylvania.
Washington Savings Bank | Philadelphia | Pennsylvania.
Phoenixville Federal Bank & Trust | Phoenixville | Pennsylvania.
Progressive-Home Federal Savings & Loan Association | Pittsburgh | Pennsylvania.
QNB Bank | Quakertown | Pennsylvania.
Mercer County State Bank | Sandy Lake | Pennsylvania.
Penn Security Bank & Trust Company | Scranton | Pennsylvania.
Slovenian Savings & Loan Association of Canonsburg | Strabane | Pennsylvania.
First Century Bank, National Association | Bluefield | West Virginia.
Pioneer Community Bank, Inc. | Iaeger | West Virginia.
Centra Bank, Inc. | Morgantown | West Virginia.
Bank of Mount Hope, Inc. | Mount Hope | West Virginia.
Community Bank of Parkersburg | Parkersburg | West Virginia.
First Neighborhood Bank, Inc. | Spencer | West Virginia.
Pleasants County Bank | St. Marys | West Virginia.
Poca Valley Bank | Walton | West Virginia.
MCNB Bank and Trust Company | Welch | West Virginia.
WesBanco Bank, Inc. | Wheeling | West Virginia.
The First National Bank of Williamson | Williamson | West Virginia.
Federal Home Loan Bank of Atlanta—District 4
CCB Community Bank | Andalusia | Alabama.
United Bank | Atmore | Alabama.
AuburnBank | Auburn | Alabama.
First Financial Bank | Bessemer | Alabama.
Alamerica Bank | Birmingham | Alabama.
Cullman Savings Bank | Cullman | Alabama.
The Citizens Bank | Enterprise | Alabama.
Alabama Teachers Credit Union | Gadsden | Alabama.
Merchants Bank | Jackson | Alabama.
Farmers and Merchants Bank | Lafayette | Alabama.
Peachtree Bank | Maplesville | Alabama.
Bank Trust | Mobile | Alabama.
Community Spirit Bank | Red Bay | Alabama.
Valley State Bank | Russellville | Alabama.
Sweet Water State Bank | Sweet Water | Alabama.
SouthFirst Bank | Sylacauga | Alabama.
The First National Bank of Talladega | Talladega | Alabama.
First Bank | Wadley | Alabama.
City First Bank of District of Columbia, N.A. | Washington | District of Columbia.
Mackinac Savings Bank, FSB | Boynton Beach | Florida.
First Bank | Clewiston | Florida.
First National Bank of Crestview | Crest View | Florida.
Regent Bank | Davie | Florida.
Landmark Bank, N.A | Fort Lauderdale | Florida.
First City Bank of Florida | Fort Walton Beach | Florida.
Desjardins Bank, National Association | Hallandale | Florida.
Publix Employees' Federal Credit Union | Lakeland | Florida.
First Federal Bank of Florida | Live Oak | Florida.
Helm Bank, USA | Miami | Florida.
Interamerican Bank, A FSB | Miami | Florida.
Terrabank, N.A | Miami | Florida.
TotalBank | Miami | Florida.
Tropical Financial Credit Union | Miami | Florida.
Friends Bank | New Smyrna Beach | Florida.
American National Bank | Oakland Park | Florida.
Pinnacle Bank | Orange City | Florida.
CNL Bank | Orlando | Florida.
Pen Air Federal Credit Union | Pensacola | Florida.
Heartland National Bank | Sebring | Florida.
Highlands Independent Bank | Sebring | Florida.
First Home Bank | Seminole | Florida.
Raymond James Bank, FSB | St. Petersburg | Florida.
Gulfstream Business Bank | Stuart | Florida.
Florida Commerce Credit Union | Tallahassee | Florida.
Bay Cities Bank | Tampa | Florida.
First Citrus Bank | Tampa | Florida.
Grow Financial Federal Credit Union | Tampa | Florida.
Florida Capital Bank, N.A | Tarpon Spring | Florida.
United Southern Bank | Umatilla | Florida.
Marine Bank and Trust | Vero Beach | Florida.
Wilcox County State Bank | Abbeville | Georgia.
Montgomery Bank & Trust | Ailey | Georgia.
Bank of Atlanta | Atlanta | Georgia.
Citizens Trust Bank | Atlanta | Georgia.
Georgia Banking Company | Atlanta | Georgia.
United Community Bank | Blairsville | Georgia.
Cherokee Bank, National Association | Canton | Georgia.
Bank of Chickamauga | Chickamauga | Georgia.
The Peoples Bank | Eatonton | Georgia.
The Farmers Bank | Forsyth | Georgia.
South Georgia Bank | Glennville | Georgia.
Delta Employees Credit Union | Hapeville | Georgia.
SunMark Community Bank | Hawkinsville | Georgia.
Community Bank of Pickens County | Jasper | Georgia.
Jasper Banking Company | Jasper | Georgia.
Northeast Georgia Bank | Lavonia | Georgia.
LGE Community Credit Union | Marietta | Georgia.
The Merchants And Citizens Bank | McRae | Georgia.
Southwest Georgia Bank | Moultrie | Georgia.
Family Bank | Pelham | Georgia.
The Citizens National Bank of Quitman | Quitman | Georgia.
Southern Bank | Sardis | Georgia.
Community Bank of The South | Smyrna | Georgia.
Quantum National Bank | Suwanee | Georgia.
First Bank of Georgia | Thomson | Georgia.
South Georgia Banking Company | Tifton | Georgia.
Citizens Bank & Trust | Trenton | Georgia.
Durden Banking Company, Inc | Twin City | Georgia.
Robins Federal Credit Union | Warner Robins | Georgia.
Farmers and Merchants Bank | Washington | Georgia.
Bay-Vanguard, FSB | Baltimore | Maryland.
Hull Federal Savings Bank | Baltimore | Maryland.
Kopernik Federal Bank | Baltimore | Maryland.
Liberty Federal Savings & Loan Association | Baltimore | Maryland.
Slavie Federal Savings Bank | Baltimore | Maryland.
State Employees Credit Union of Maryland | Baltimore | Maryland.
Vigilant Federal Savings Bank | Baltimore | Maryland.
EagleBank | Bethesda | Maryland.
TMB Federal Credit Union | Cabin John | Maryland.
Cecil Bank | Elkton | Maryland.
Lafayette Federal Credit Union | Kensington | Maryland.
FedChoice Federal Credit Union | Lanham | Maryland.
First United Bank & Trust | Oakland | Maryland.
North Arundel Savings Bank, FSB | Pasadena | Maryland.
Provident State Bank, Inc | Preston | Maryland.
The National Bank of Rising Sun | Rising Sun | Maryland.
Bank of Stanly | Albemarle | North Carolina.
Home Savings Bank of Albemarle, SSB | Albemarle | North Carolina.
Randolph Bank & Trust Company | Asheboro | North Carolina.
Mechanics and Farmers Bank | Durham | North Carolina.
Macon Bank, Inc | Franklin | North Carolina.
Farmers & Merchants Bank | Granite Quarry | North Carolina.
Carolina Bank | Greensboro | North Carolina.
Hertford Savings Bank, SSB | Hertford | North Carolina.
The Little Bank | Kinston | North Carolina.
Mount Gilead Savings & Loan Association | Mount Gilead | North Carolina.
CapStone Bank | Raleigh | North Carolina.
Paragon Commercial Bank | Raleigh | North Carolina.
State Employees' Credit Union | Raleigh | North Carolina.
Taylorsville Savings Bank, SSB | Taylorsville | North Carolina.
Anson Bank & Trust Company | Wadesboro | North Carolina.
Waccamaw Bank | Whiteville | North Carolina.
Cornerstone Bank | Wilson | North Carolina.
Home Federal Savings & Loan Association | Bamberg | South Carolina.
First Reliance Bank | Florence | South Carolina.
Bank of Greeleyville | Greeleyville | South Carolina.
The County Bank | Greenwood | South Carolina.
Citizens Bank & Loan Association | Greer | South Carolina.
Greer State Bank | Greer | South Carolina.
First National Bank of South Carolina | Holly Hill | South Carolina.
Kingstree Federal Savings & Loan Association | Kingstree | South Carolina.
The Bank of Clarendon | Manning | South Carolina.
Southcoast Community Bank | Mount Pleasant | South Carolina.
Anderson Brothers Bank | Mullins | South Carolina.
Heritage Trust Federal Credit Union | North Charles | South Carolina.
Pickens Savings & Loan Association, FA | Pickens | South Carolina.
GrandSouth Bank | Simpsonville | South Carolina.
Bank of Travelers Rest | Travelers Rest | South Carolina.
First Federal of South Carolina, FSB | Walterboro | South Carolina.
E*Trade Bank | Arlington | Virginia.
The Blue Grass Valley Bank | Blue Grass | Virginia.
The Bank of Southside Virginia | Carson | Virginia.
Access National Bank | Chantilly | Virginia.
Bank of Hampton Roads | Chesapeake | Virginia.
Apple Federal Credit Union | Fairfax | Virginia.
Bank of The James | Lynchburg | Virginia.
Lee Bank & Trust Company | Pennington Gap | Virginia.
First Sentinel Bank | Richlands | Virginia.
First Bank | Strasburg | Virginia.
Navy Federal Credit Union | Vienna | Virginia.
Farmers Bank | Windsor | Virginia.
Federal Home Loan Bank of Cincinnati—District 5
Town & Country Bank and Trust Company | Bardstown | Kentucky.
Wilson & Muir Bank & Trust | Bardstown | Kentucky.
Bedford Loan & Deposit Bank | Bedford | Kentucky.
Meade County Bank | Brandenburg | Kentucky.
Band of Cadiz & Trust Company | Cadiz | Kentucky.
Bank of Columbia | Columbia | Kentucky.
Bank of Ohio County | Dundee | Kentucky.
Kentucky Neighborhood Bank | Elizabethtown | Kentucky.
Peoples Bank of Kentucky, Inc | Flemingsburg | Kentucky.
The Farmers Bank | Hardinsburg | Kentucky.
Hancock Bank & Trust Company | Hawesville | Kentucky.
Peoples Bank & Trust of Hazard | Hazard | Kentucky.
Heritage Bank | Hopkinsville | Kentucky.
Planters Bank, Inc | Hopkinsville | Kentucky.
Bank of Jamestown | Jamestown | Kentucky.
The Bank of Oldham County, Inc | La Grange | Kentucky.
Leitchfield Deposit Bank & Trust | Leitchfield | Kentucky.
Central Bank & Trust Company | Lexington | Kentucky.
Commonwealth Bank & Trust Company | Louisville | Kentucky.
L & N Federal Credit Union | Louisville | Kentucky.
Farmers Bank and Trust Company | Marion | Kentucky.
Monticello Bankshares, Inc | Monticello | Kentucky.
South Central Bank | Owensboro | Kentucky.
Blue Grass Federal Savings & Loan Association | Paris | Kentucky.
First Commonwealth Bank of Prestonsburg | Prestonsburg | Kentucky.
Salt Lick Deposit Bank | Salt Lick | Kentucky.
First & Farmers National Bank, Inc | Somerset | Kentucky.
Belpre Savings Bank | Belpre | Ohio.
Bethel Building & Loan Company | Bethel | Ohio.
Equitable Savings & Loan Company | Cadiz | Ohio.
First Federal Savings and Loan Association | Centerburg | Ohio.
Cinfed Federal Credit Union | Cincinnati | Ohio.
Eagle Savings Bank | Cincinnati | Ohio.
Guardian Savings Bank, FSB | Cincinnati | Ohio.
Mt. Washington Savings & Loan | Cincinnati | Ohio.
U.S. Bank, National Association | Cincinnati | Ohio.
Union Savings Bank | Cincinnati | Ohio.
First Community Bank | Columbus | Ohio.
Conneaut Savings Bank | Conneaut | Ohio.
The Corn City State Bank | Deshler | Ohio.
CF Bank | Fairlawn | Ohio.
The Fort Jennings State Bank | Fort Jennings | Ohio.
Galion Building and Loan Bank | Galion | Ohio.
The Home Bank & Loan Company | Greenfield | Ohio.
Greenville National Bank | Greenville | Ohio.
Hamler State Bank | Hamler | Ohio.
First Federal Savings & Loan Association | Lorain | Ohio.
The Fahey Banking Company | Marion | Ohio.
Sun Federal Credit Union | Maumee | Ohio.
The Vinton County N.B. of McArthur | McArthur | Ohio.
The Citizens N.B. of McConnelsville | McConnelsville | Ohio.
The American Savings Bank | Middletown | Ohio.
Geauga Savings Bank | Newbury | Ohio.
First National Bank | Orrville | Ohio.
The Republic Banking Company | Republic | Ohio.
Ripley Federal Savings Bank | Ripley | Ohio.
Mutual Federal Savings Bank | Sidney | Ohio.
Strasburg Savings Bank | Strasburg | Ohio.
The Peoples Savings Bank | Urbana | Ohio.
First Federal Savings & Loan Association of Van Wert | Van Wert | Ohio.
The Peoples Savings & Loan Company | West Liberty | Ohio.
The Union Banking Company | West Mansfield | Ohio.
Farmers State Bank | West Salem | Ohio.
Dollar Bank, FSB | Pittsburgh | Pennsylvania.
The Citizens NB of Athens | Athens | Tennessee.
Brighton Bank | Brighton | Tennessee.
Community First Bank & Trust | Columbia | Tennessee.
First Farmers and Merchants Bank | Columbia | Tennessee.
Bank of Putnam County | Cookeville | Tennessee.
Highland Federal Savings & Loan Association | Crossville | Tennessee.
First Federal Bank | Dickson | Tennessee.
Carter County Bank | Elizabethton | Tennessee.
Security Federal Bank | Elizabethton | Tennessee.
Tennessee State Bank | Gatlinburg | Tennessee.
GreenBank | Greeneville | Tennessee.
Bank of Halls | Halls | Tennessee.
Commercial Bank | Harrogate | Tennessee.
Carroll Bank & Trust | Huntingdon | Tennessee.
Union Bank | Jamestown | Tennessee.
Bank of Tennessee | Kingsport | Tennessee.
First Bank | Lexington | Tennessee.
Peoples Bank of East Tennessee | Madisonville | Tennessee.
First National Bank of Manchester | Manchester | Tennessee.
The Coffee County Bank | Manchester | Tennessee.
Memphis Area Teachers' Credit Union | Memphis | Tennessee.
Johnson County Bank | Mountain City | Tennessee.
National Bank of Tennessee | Newport | Tennessee.
The Farmers Bank | Portland | Tennessee.
Central Bank | Savannah | Tennessee.
Home Banking Company | Selmer | Tennessee.
First Community Bank of Bedford County | Shelbyville | Tennessee.
Farmers & Merchants Bank | Trezevant | Tennessee.
American City Bank | Tullahoma | Tennessee.
Reelfoot Bank | Union City | Tennessee.
Federal Home Loan Bank of Indianapolis—District 6
Bedford FSB | Bedford | Indiana.
The Franklin County NB of Brookville | Brookville | Indiana.
First Savings Bank, FSB | Clarksville | Indiana.
First National Bank | Cloverdale | Indiana.
Irwin Union Bank | Columbus | Indiana.
United Fidelity Bank | Evansville | Indiana.
Fowler State Bank | Fowler | Indiana.
Freedom Bank | Huntingburg | Indiana.
First, FSB | Huntington | Indiana.
Finance Center Federal Credit Union | Indianapolis | Indiana.
The Campbell and Fetter Bank | Kendallville | Indiana.
Lafayette Savings Bank, FSB | Lafayette | Indiana.
United Community Bank | Lawrenceburg | Indiana.
River Valley Financial Bank | Madison | Indiana.
MarkleBank | Markle | Indiana.
First State Bank of Middlebury | Middlebury | Indiana.
Peoples Savings & Loan Association of Monticello Indiana | Monticello | Indiana.
Citizens Financial Bank | Munster | Indiana.
Your Community Bank | New Albany | Indiana.
Ameriana Bank & Trust of Indiana | New Castle | Indiana.
The New Washington State Bank | New Washington | Indiana.
American Trust, FSB | Peru | Indiana.
Spencer County Bank | Santa Claus | Indiana.
Jackson County Bank of Seymour | Seymour | Indiana.
SCB Bank | Shelbyville | Indiana.
Terre Haute Savings Bank | Terre Haute | Indiana.
Homestead Savings Bank | Albion | Michigan.
Michigan Commerce Bank | Ann Arbor | Michigan.
Signature Bank—Bad Axe | Bad Axe | Michigan.
Lake Osceola State Bank | Baldwin | Michigan.
Central State Bank | Beulah | Michigan.
Charlevoix State Bank | Charlevoix | Michigan.
Eastern Michigan Bank | Croswell | Michigan.
Dearborn, FSB | Dearborn | Michigan.
State Bank of Ewen | Ewen | Michigan.
Option 1 Credit Union | Grand Rapids | Michigan.
PAC Federal Credit Union | Hamtramck | Michigan.
Capitol National Bank | Lansing | Michigan.
State Savings Bank of Manistique | Manistique | Michigan.
Mason State Bank | Mason | Michigan.
Firstbank | Mount Pleasant | Michigan.
The First National Bank of Norway | Norway | Michigan.
Community Financial Credit Union | Plymouth | Michigan.
Team One Credit Union | Saginaw | Michigan.
West Shore Bank | Scottville | Michigan.
Sidney State Bank | Sidney | Michigan.
Sterling Bank & Trust | Southfield | Michigan.
United Bank & Trust of Tecumseh | Tecumseh | Michigan.
Flagstar Bank, FSB | Troy | Michigan.
Firstbank-West Branch | West Branch | Michigan.
Sun Federal Credit Union | Maumee | Ohio.
Federal Home Loan Bank of Chicago—District 7
Oxford Bank & Trust | Oak Brook | Illinois.
Andalusia Community Bank | Andalusia | Illinois.
Heartland Bank and Trust Company | Bloomington | Illinois.
Peoples Bank of Kankakee County | Bourbonnais | Illinois.
Bridgeview Bank Group | Bridgeview | Illinois.
United Trust Bank | Bridgeview | Illinois.
First American Bank | Elk Grove Village | Illinois.
United Community Bank | Chatham | Illinois.
Amalgamated Bank of Chicago | Chicago | Illinois.
Austin Bank of Chicago | Chicago | Illinois.
Burling Bank | Chicago | Illinois.
The Foster bank | Chicago | Illinois.
First National Bank of Chillicothe | Chillicothe | Illinois.
State Bank of Countryside | Countryside | Illinois.
First Savings Bank | Danville | Illinois.
Midland States Bank | Effingham | Illinois.
Washington Savings Bank | Effingham | Illinois.
Union Savings Bank | Freeport | Illinois.
Central Bank Illinois | Geneseo | Illinois.
Bank Of Gibson City | Gibson City | Illinois.
NorthSide Community Bank | Gurnee | Illinois.
Parkway Bank and Trust Company | Harwood Heights | Illinois.
North Central Bank | Hennepin | Illinois.
State Bank Of Herscher | Herscher | Illinois.
Jacksonville Savings Bank | Jacksonville | Illinois.
The Farmers State Bank and Trust Company | Jacksonville | Illinois.
Bank of Kampsville | Kampsville | Illinois.
Kent Bank | Kent | Illinois.
First Federal Savings & Loan Association of Kewanee | Kewanee | Illinois.
Union Federal Savings & Loan Association | Kewanee | Illinois.
Midland Community Bank | Kincaid | Illinois.
Kinderhook State Bank | Kinderhook | Illinois.
La Salle State Bank | La Salle | Illinois.
Logan County Bank | Lincoln | Illinois.
The Bank of Marion | Marion | Illinois.
Twin Oaks Savings Bank | Marseilles | Illinois.
Citizens Community Bank | Mascoutah | Illinois.
First Federal Savings & Loan Association of Mattoon | Mattoon | Illinois.
Middletown State Bank | Middletown | Illinois.
Blackhawk Bank and Trust | Milan | Illinois.
First Farmers State Bank | Minier | Illinois.
First State Bank | Monticello | Illinois.
The Leaders Bank | Oak Brook | Illinois.
The First National Bank of Ogden | Ogden | Illinois.
The First National Bank of Okawville | Okawville | Illinois.
Federated Bank | Onarga | Illinois.
The First National Bank of Ottawa | Ottawa | Illinois.
The Edgar County Bank and Trust Company of Paris | Paris | Illinois.
The State Bank of Pearl City | Pearl City | Illinois.
First Federal Savings & Loan Association of Pekin | Pekin | Illinois.
Pekin National Bank | Pekin | Illinois.
Peru Federal Savings Bank | Peru | Illinois.
First National Bank in Pinckneyville | Pinckneyville | Illinois.
Murphy-Wall State Band & Trust Company | Pinckneyville | Illinois.
Village Bank and Trust | Arlington Heights | Illinois.
Bank of Quincy | Quincy | Illinois.
Mercantile Bank | Quincy | Illinois.
State Street Bank and Trust Company | Quincy | Illinois.
North County Savings Bank | Red Bud | Illinois.
I.H. Mississippi Valley Credit Union | Moline | Illinois.
State Bank of Saunemin | Saunemin | Illinois.
First Savanna Savings Bank | Savanna | Illinois.
Heritage Bank of Schaumburg | Schaumburg | Illinois.
Farmers & Traders State Bank | Shabbona | Illinois.
First State Bank Shannon-Polo | Shannon | Illinois.
The First National Bank of Sparta | Sparta | Illinois.
Illinois National Bank | Springfield | Illinois.
Security Bank, s.b | Springfield | Illinois.
Freedom Bank | Sterling | Illinois.
Sauk Valley Bank & Trust Company | Sterling | Illinois.
Stillman BanCorp, N.A | Rockford | Illinois.
Centrue Bank | Streator | Illinois.
American Midwest Bank | Sycamore | Illinois.
The National Bank & Trust Company of Sycamore | Sycamore | Illinois.
Citizens First State Bank of Walnut | Walnut | Illinois.
The Hill-Dodge Banking Company | Warsaw | Illinois.
State Bank of Waterloo | Waterloo | Illinois.
North Shore Trust and Savings | Waukegan | Illinois.
Waukegan Savings Bank | Waukegan | Illinois.
American Community Bank | Woodstock | Illinois.
Prospect Federal Savings Bank | Worth | Illinois.
Jackson County Bank | Black River Falls | Wisconsin.
Dairyland State Bank | Bruce | Wisconsin.
State Bank of Cross Plains | Cross Plains | Wisconsin.
Pioneer Credit Union | Green Bay | Wisconsin.
AM Community Credit Union | Kenosha | Wisconsin.
National Bank of Commerce | Superior | Wisconsin.
Tomahawk Community Bank, S.S.B | Tomahawk | Wisconsin.
Federal Home Loan Bank of Des Moines—District 8
United Missouri Insurance Company | Phoenix | Arizona.
Security State Bank | Algona | Iowa.
Farmers Savings Bank | Marshalltown | Iowa.
Farmers Trust and Savings Bank | Buffalo Center | Iowa.
Clear Lake Bank and Trust Company | Clear Lake | Iowa.
Gateway State Bank | Clinton | Iowa.
Peoples Trust & Savings Bank | Clive | Iowa.
C US Bank | Cresco | Iowa.
Denver Savings Bank | Denver | Iowa.
De Witt Bank & Trust Company | Dewitt | Iowa.
Premier Bank | Dubuque | Iowa.
Liberty Trust & Savings Bank | Durant | Iowa.
Farmer's Trust & Savings Bank | Earling | Iowa.
Hardin County Savings Bank | Eldora | Iowa.
Bank Plus | Estherville | Iowa.
NorthStar Bank | Estherville | Iowa.
Fort Madison Bank & Trust Company | Fort Madison | Iowa.
Security Savings Bank | Gowrie | Iowa.
Midstates Bank, N.A | Council Bluffs | Iowa.
Hills Bank and Trust Company | Hills | Iowa.
First State Bank | Ida Grove | Iowa.
Peoples Savings Bank | Indianola | Iowa.
Iowa Falls State Bank | Iowa Falls | Iowa.
Charter Bank | Johnston | Iowa.
Farmers Savings Bank | Keota | Iowa.
Kingsley State Bank | Kingsley | Iowa.
Kerndt Brothers Savings Bank | Lansing | Iowa.
Laurens State Bank | Laurens | Iowa.
State Bank of Ledyard | Ledyard | Iowa.
Libertyville Savings Bank | Fairfield | Iowa.
First State Bank | Lynnville | Iowa.
First National Bank of Manning | Manning | Iowa.
Valley Bank & Trust | Mapleton | Iowa.
Maquoketa State Bank | Maquoketa | Iowa.
Maynard Savings Bank | Maynard | Iowa.
Wayland State Bank | Mount Pleasant | Iowa.
Mount Vernon Bank & Trust Company | Mount Vernon | Iowa.
Community Bank | Muscatine | Iowa.
Community Bank of Oelwein | Oelwein | Iowa.
First National Bank Midwest | Oskaloosa | Iowa.
Guthrie County State Bank | Panora | Iowa.
Tri-Valley Bank | Randolph | Iowa.
Houghton State Bank | Red Oak | Iowa.
Peoples Bank | Rock Valley | Iowa.
Union State Bank | Rockwell City | Iowa.
Rolfe State Bank | Rolfe | Iowa.
Keokuk County State Bank | Sigourney | Iowa.
South Story Bank & Trust | Slater | Iowa.
Citizens Savings Bank | Spillville | Iowa.
St. Ansgar State Bank | St. Ansgar | Iowa.
Central State Bank | State Center | Iowa.
Victor State Bank | Victor | Iowa.
Federation Bank | Washington | Iowa.
Washington State Bank | Washington | Iowa.
The Watkins Savings Bank | Watkins | Iowa.
West Iowa Bank | West Bend | Iowa.
Fidelity Bank | West Des Moines | Iowa.
GuideOne Mutual Insurance Company | West Des Moines | Iowa.
State Savings Bank | West Des Moines | Iowa.
Bank Iowa | West Des Moines | Iowa.
Farmers State Bank | Yale | Iowa.
Sterling State Bank | Austin | Minnesota.
White Rock Bank | Cannon Falls | Minnesota.
Currie State Bank | Currie | Minnesota.
State Bank of Danvers | Danvers | Minnesota.
State Bank of DelaNo. | Delano | Minnesota.
Voyager Bank | Eden Prairie | Minnesota.
1st United Bank | Faribault | Minnesota.
Border State Bank | Greenbush | Minnesota.
Citizens State Bank of Hayfield | Hayfield | Minnesota.
Farmers State Bank of Hoffman | Hoffman | Minnesota.
Key Community Bank | Inver Grove Heights | Minnesota.
Kasson State Bank | Kasson | Minnesota.
Lake City Federal Bank | Lake City | Minnesota.
Lake Area Bank | Lindstrom | Minnesota.
Peoples State Bank of Madison Lake | Madison Lake | Minnesota.
Inter Savings Bank, FSB | Maple Grove | Minnesota.
TopLine Federal Credit Union | Maple Grove | Minnesota.
The Business Bank | Minnetonka | Minnesota.
First National Bank of Moose Lake | Moose Lake | Minnesota.
United Prairie Bank | Mountain Lake | Minnesota.
American Bank of the North | Nashwauk | Minnesota.
New Market Bank | New Market | Minnesota.
State Bank of New Prague | New Prague | Minnesota.
ProGrowth Bank | Nicollet | Minnesota.
Lakes State Bank | Pequot Lakes | Minnesota.
Bankwest | Rockford | Minnesota.
Citizens State Bank of Roseau | Roseau | Minnesota.
Bremer Bank, National Association | Saint Cloud | Minnesota.
St. James Federal Savings and Loan Association | Saint James | Minnesota.
Affinity Plus Federal Credit Union | Saint Paul | Minnesota.
BankVista | Sartell | Minnesota.
Village Bank | St. Francis | Minnesota.
Sentry Bank | St. Joseph | Minnesota.
Great Northern Bank | St. Michael | Minnesota.
The Nicollet County Bank of St. Peter | St. Peter | Minnesota.
Farmers State Bank of Trimont | Trimont | Minnesota.
The First National Bank of Walker | Walker | Minnesota.
Roundbank | Waseca | Minnesota.
Welcome State Bank | Welcome | Minnesota.
Ultima Bank Minnesota | Winger | Minnesota.
Flagship Bank Winsted | Winsted | Minnesota.
Citizens Bank—Amsterdam | Amsterdam | Missouri.
CBC Bank | Bowling Green | Missouri.
Community State Bank of Missouri | Bowling Green | Missouri.
First Community Bank of the Ozarks | Branson | Missouri.
Pony Express Bank | Braymer | Missouri.
Cass Commercial Bank | Bridgeton | Missouri.
The Citizens-Farmers Bank of Cole Camp | Cole Camp | Missouri.
Landmark Bank, National Association | Columbia | Missouri.
New Era Bank | Fredericktown | Missouri.
Bank Star One | Fulton | Missouri.
The Central Trust Bank | Jefferson City | Missouri.
Hawthorn Bank | Jefferson City | Missouri.
Mazuma Credit Union | Kansas City | Missouri.
Old American Insurance Company | Kansas City | Missouri.
Macon-Atlanta State Bank | Macon | Missouri.
Regional Missouri Bank | Marceline | Missouri.
Nodaway Valley Bank | Maryville | Missouri.
Independent Farmers Bank | Maysville | Missouri.
Heritage State Bank | Nevada | Missouri.
Bank of New Cambria | New Cambria | Missouri.
First Bank of the Lake | Osage Beach | Missouri.
Palmyra State Bank | Palmyra | Missouri.
Citizens Community Bank | Pilot Grove | Missouri.
Citizens Bank of Rogersville | Rogersville | Missouri.
Legacy Bank & Trust Company | Rogersville | Missouri.
Pulaski Bank | Saint Louis | Missouri.
Bank of Salem | Salem | Missouri.
The Merchants and Farmers Bank of Salisbury | Salisbury | Missouri.
Excel Bank | Sedalia | Missouri.
People's Bank of Seneca | Seneca | Missouri.
Empire Bank | Springfield | Missouri.
Liberty Bank | Springfield | Missouri.
First Missouri Credit Union | St. Louis | Missouri.
First State Bank of St. Robert | St. Robert | Missouri.
Bank Star of the BootHeel | Steele | Missouri.
Community Bank of the Ozarks | Sunrise Beach | Missouri.
The Tipton Latham Bank, N.A | Tipton | Missouri.
Royal Banks of Missouri | St. Louis | Missouri.
Meramec Valley Bank | Valley Park | Missouri.
First Central Bank | Warrensburg | Missouri.
Bank of Franklin County | Washington | Missouri.
Bank of Washington | Washington | Missouri.
West Plains Savings & Loan Association | West Plains | Missouri.
First Community Credit Union | Jamestown | North Dakota.
The First and Farmers Bank | Portland | North Dakota.
The Bank of Tioga | Tioga | North Dakota.
First International Bank & Trust | Watford City | North Dakota.
Farmers State Bank | Marion | South Dakota.
Principal Mortgage Reinsurance Company | Burlington | Vermont.
Federal Home Loan Bank of Dallas—District 9
SOUTHBank, FSB | Huntsville | Alabama.
First National Bank of Crossett | Crossett | Arkansas.
Bank of Eureka Springs | Eureka Spring | Arkansas.
The First National Bank of Fort Smith | Fort Smith | Arkansas.
Bank of Gravett | Gravett | Arkansas.
Heber Springs State Bank | Heber Springs | Arkansas.
First National Bank | Hot Springs | Arkansas.
Hot Springs Bank & Trust Company | Hot Springs | Arkansas.
Bank of Lake Village | Lake Village | Arkansas.
Bank of the Ozarks | Little Rock | Arkansas.
Capital Bank | Little Rock | Arkansas.
First State Bank | Lonoke | Arkansas.
Malvern National Bank | Malvern | Arkansas.
Union Bank of Mena | Mena | Arkansas.
Bank of Salem | Salem | Arkansas.
First Security Bank | Searcy | Arkansas.
Simmons First Bank of Searcy | Searcy | Arkansas.
Citizens Bank & Trust Company | Van Buren | Arkansas.
First Community Bank of Crawford | Van Buren | Arkansas.
Evolve Bank & Trust | West Memphis | Arkansas.
Fidelity National Bank | West Memphis | Arkansas.
Fidelity Bank | Baton Rouge | Louisiana.
Kaplan State Bank | Kaplan | Louisiana.
Sabine State B&T Company | Many | Louisiana.
State-Investors Bank | Metairie | Louisiana.
Exchange Bank & Trust Company | Natchitoches | Louisiana.
Liberty Bank and Trust Company | New Orleans | Louisiana.
Home Federal Bank | Shreveport | Louisiana.
Sicily Island State Bank | Sicily Island | Louisiana.
St. Martin Bank & Trust Company | St. Martinville | Louisiana.
Concordia Bank & Trust Company | Vidalia | Louisiana.
Evangeline Bank & Trust | Ville Platte | Louisiana.
Citizens Bank & Trust Company | Vivian | Louisiana.
Progressive Bank | Winnsboro | Louisiana.
BankPlus | Belzoni | Mississippi.
First Southern Bank | Columbia | Mississippi.
Commercial Bank | Dekalb | Mississippi.
Community Bank of Mississippi | Forest | Mississippi.
Bank of Jones County | Laurel | Mississippi.
Century Bank | Lucedale | Mississippi.
Great Southern National Bank | Meridian | Mississippi.
Newton County Bank | Newton | Mississippi.
The First National Bank of Oxford | Oxford | Mississippi.
Citizens Bank | Philadelphia | Mississippi.
Renasant Bank | Tupelo | Mississippi.
New Mexico Bank & Trust | Albuquerque | New Mexico.
The Carlsbad National Bank | Carlsbad | New Mexico.
Western Bank | Lordsburg | New Mexico.
Pioneer Bank | Roswell | New Mexico.
Community Bank | Santa Fe | New Mexico.
The First National Bank of Santa Fe | Santa Fe | New Mexico.
Centinel Bank of Taos | Taos | New Mexico.
United Funeral Benefit Life Insurance Company | Oklahoma City | Oklahoma.
Texas Champion Bank | Alice | Texas.
Amarillo National Bank | Amarillo | Texas.
First National Bank of Bellville | Bellville | Texas.
International Bank of Commerce | Brownsville | Texas.
Western Bank | Coahoma | Texas.
American Bank, National Association | Corpus Christi | Texas.
ValueBank Texas | Corpus Christi | Texas.
Equity Bank, SSB | Dallas | Texas.
Park Cities Bank | Dallas | Texas.
State Bank and Trust Company | Dallas | Texas.
The Bank & Trust, SSB | Del Rio | Texas.
First National Bank | Edinburg | Texas.
Bank of the West | El Paso | Texas.
Capital Bank, SSB | El Paso | Texas.
First National Bank of Fabens | Fabens | Texas.
Texas Regional Bank | Harlingen | Texas.
Woodhaven National Bank | Fort Worth | Texas.
United Central Bank | Garland | Texas.
Texas Bank | Henderson | Texas.
First National Bank of Hereford | Hereford | Texas.
Amegy Bank National Association | Houston | Texas.
New Era Life Insurance Company | Houston | Texas.
Omnibank, National Association | Houston | Texas.
The First National Bank of Hughes Springs | Hughes Spring | Texas.
First National Bank of Huntsville | Huntsville | Texas.
International Bank of Commerce | Laredo | Texas.
Security State Bank | Littlefield | Texas.
First State Bank of Livingston | Livingston | Texas.
First-Lockhart National Bank | Lockhart | Texas.
Community Bank | Longview | Texas.
Texas Star Bank, SSB | Lott | Texas.
City Bank | Lubbock | Texas.
Border Capital Bank, National Association | McAllen | Texas.
Rio Bank | McAllen | Texas.
First National Bank of McGregor | McGregor | Texas.
Independent Bank | McKinney | Texas.
Citizens State Bank | Miles | Texas.
Oglesby State Bank | Oglesby | Texas.
Crockett National Bank | Ozona | Texas.
First State Bank | Paint Rock | Texas.
Interstate Bank, SSB | Perryton | Texas.
Cypress Bank, FSB | Pittsburg | Texas.
ViewPoint Bank | Plano | Texas.
First National Bank in Quanah | Quanah | Texas.
Benchmark Bank | Quinlan | Texas.
Bank Texas, N.A. | Quitman | Texas.
Peoples State Bank | Rocksprings | Texas.
Texas State Bank | San Angelo | Texas.
San Antonio Federal Credit Union | San Antonio | Texas.
The Frost National Bank | San Antonio | Texas.
American Bank of Texas | Sherman | Texas.
First National Bank of Sonora | Sonora | Texas.
Commercial National Bank of Texarkana | Texarkana | Texas.
Southside Bank | Tyler | Texas.
First Victoria National Bank | Victoria | Texas.
American Bank, National Association | Waco | Texas.
Union Square Federal Credit Union | Wichita Falls | Texas.
International Bank of Commerce | Zapata | Texas.
Federal Home Loan Bank of Topeka—District 10
Canon National Bank | Canon City | Colorado.
Ent Federal Credit Union | Colorado Springs | Colorado.
The Citizens State Bank of Cortez | Cortez | Colorado.
Guaranty Bank and Trust Company | Denver | Colorado.
Public Service Employees Credit Union | Denver | Colorado.
Condon Bank and Trust | Coffeyville | Kansas.
Community State Bank | Coffeyville | Kansas.
Conway Bank, NA | Conway Spring | Kansas.
The Liberty Savings Association, FSA | Fort Scott | Kansas.
The City State Bank | Fort Scott | Kansas.
Citizens State Bank | Grainfield | Kansas.
First National Bank | Independence | Kansas.
Kansas State Bank of Manhattan | Manhattan | Kansas.
Stockgrowers State Bank | Maple Hill | Kansas.
The Marion National Bank | Marion | Kansas.
The Citizens State Bank | Marysville | Kansas.
Farmers and Merchants Bank of Mound City Kansas | Mound City | Kansas.
Montezuma State Bank | Montezuma | Kansas.
The Kansas State Bank | Overbrook | Kansas.
Alterra Bank | Overland Park | Kansas.
Bank of Palmer | Palmer | Kansas.
Farmers State Bank | Phillipsburg | Kansas.
First National Bank in Pratt | Pratt | Kansas.
Prescott State Bank | Prescott | Kansas.
Astra Bank | Scandia | Kansas.
The First National Bank of Scott City | Scott City | Kansas.
Centera Bank | Sublette | Kansas.
First Federal Savings & Loan Association of Wakeeney | Wakeeney | Kansas.
Kaw Valley State Bank & Trust Company | Wamego | Kansas.
The First National Bank of Wamego | Wamego | Kansas.
Farmers State Bank | Westmoreland | Kansas.
Fidelity Bank | Wichita | Kansas.
The First National Bank of Bancroft | Bancroft | Nebraska.
First Bank & Trust of Fullerton | Fullerton | Nebraska.
Geneva State Bank | Geneva | Nebraska.
Equitable Bank | Grand Island | Nebraska.
Home Federal Savings & Loan Association of Grand Island | Grand Island | Nebraska.
The Hershey State Bank | Hershey | Nebraska.
Platte Valley State Bank & Trust | Kearney | Nebraska.
Bank of Keystone | Keystone | Nebraska.
Home Federal Savings & Loan Association of Nebraska | Lexington | Nebraska.
Lincoln Federal Savings Bank | Lincoln | Nebraska.
First National Bank Northeast | Lyons | Nebraska.
Frontier Bank | Madison | Nebraska.
Madison County Bank | Madison | Nebraska.
Farmers & Merchants Bank | Milford | Nebraska.
Corn Growers State Bank | Murdock | Nebraska.
Murray State Bank | Murray | Nebraska.
Bank of Newman Grove | Newman Grove | Nebraska.
BankFirst | Norfolk | Nebraska.
Elkhorn Valley Bank & Trust | Norfolk | Nebraska.
First National Bank | North Platte | Nebraska.
Nebraskaland National Bank | North Platte | Nebraska.
Pender State Bank | Pender | Nebraska.
Midwest Bank, NA | Pierce | Nebraska.
Town & Country Bank | Ravenna | Nebraska.
First State Bank | Scottsbluff | Nebraska.
Sidney Federal Savings & Loan Association | Sidney | Nebraska.
Springfield State Bank | Springfield | Nebraska.
Bank of Stapleton | Stapleton | Nebraska.
Tri Valley Bank | Talmage | Nebraska.
Tecumseh Federal Bank | Tecumseh | Nebraska.
First Bank of Utica | Utica | Nebraska.
Oak Creek Valley Bank | Valparaiso | Nebraska.
Farmers State Bank | Wallace | Nebraska.
Commercial State Bank | Wausa | Nebraska.
Citizens State Bank | Wisner | Nebraska.
Cornerstone Bank | York | Nebraska.
66 Federal Credit Union | Bartlesville | Oklahoma.
AVB Bank | Broken Arrow | Oklahoma.
Cleo State Bank | Cleo Springs | Oklahoma.
Grand Savings Bank | Grove | Oklahoma.
Grand Bank | Grove | Oklahoma.
Bank of Hydro | Hydro | Oklahoma.
First National Bank of Muskogee | Muskogee | Oklahoma.
The Citizens State Bank | Okemah | Oklahoma.
First Enterprise Bank | Oklahoma City | Oklahoma.
InterBank | Oklahoma City | Oklahoma.
Bank of Cordell | Rocky | Oklahoma.
Lakeside Bank of Salina | Salina | Oklahoma.
The Shattuck National Bank | Shattuck | Oklahoma.
Anchor D Bank | Texhoma | Oklahoma.
The Bank of the West | Thomas | Oklahoma.
Energy One Federal Credit Union | Tulsa | Oklahoma.
Armstrong Bank | Vian | Oklahoma.
First Bank & Trust Company | Wagoner | Oklahoma.
Bank of Commerce | Yukon | Oklahoma.
Federal Home Loan Bank of San Francisco—District 11
Western Alliance Bank | Phoenix | Arizona.
Arizona Federal Credit Union | Phoenix | Arizona.
Canyon Community Bank, NA | Tucson | Arizona.
Eastern International Bank | Los Angeles | California.
New Omni Bank, N.A. | Alhambra | California.
Premier Commercial Bank, NA | Anaheim | California.
Kern Schools Federal Credit Union | Bakersfield | California.
Chino Commercial Bank, N.A. | Chino | California.
Bank of Marin | Corte Madera | California.
Coast Central Credit Union | Eureka | California.
Fresno County Federal Credit Union | Fresno | California.
South Western Federal Credit Union | La Habra | California.
Farmers & Merchants Bank of Central California | Lodi | California.
American Business Bank | Los Angeles | California.
BBCN Bank | Los Angeles | California.
State Bank of India (California) | Los Angeles | California.
Wilshire State Bank | Los Angeles | California.
Kinecta Federal Credit Union | Manhattan Beach | California.
SAFE Credit Union | North Highlands | California.
United Labor Bank, FSB | Oakland | California.
Wescom Central Credit Union | Pasadena | California.
1st United Services Credit Union | Pleasanton | California.
Valley Community Bank | Pleasanton | California.
Redding Bank of Commerce | Redding | California.
Point Loma Credit Union | San Diego | California.
San Diego County Credit Union | San Diego | California.
San Diego Metropolitan Credit Union | San Diego | California.
Torrey Pines Bank | San Diego | California.
University & State Employees Credit Union | San Diego | California.
California Bank & Trust | San Diego | California.
Chevron Federal Credit Union | Oakland | California.
Northeast Community Federal Credit Union | San Francisco | California.
Alliance Credit Union | San Jose | California.
Coast National Bank | San Luis Obispo | California.
American Security Bank | Santa Ana | California.
Bridge Bank, N.A. | Santa Clara | California.
Silicon Valley Bank | Santa Clara | California.
Community Bank of Santa Maria | Santa Maria | California.
Pacific Western Bank | Santa Monica | California.
Luther Burbank Savings | Santa Rosa | California.
Sunwest Bank | Tustin | California.
County Commerce Bank | Ventura | California.
Bank of Feather River | Yuba City | California.
Bank of Manhattan, N.A. | El Segundo | California.
Bank of Santa Clarita | Santa Clarita | California.
California Bank of Commerce | Lafayette | California.
California Republic Bank | Newport Beach | California.
Bank of Las Vegas | Las Vegas | Nevada.
Town & Country Bank | Las Vegas | Nevada.
Bank of George | Las Vegas | Nevada.
Federal Home Loan Bank of Seattle—District 12
First National Bank Alaska | Anchorage | Alaska.
First Bank | Ketchikan | Alaska.
Aloha Pacific Federal Credit Union | Honolulu | Hawaii.
Territorial Savings Bank | Honolulu | Hawaii.
Home Federal Bank | Nampa | Idaho.
Rocky Mountain Bank | Billings | Montana.
Mountain West Bank, N.A. | Helena | Montana.
Valley Bank of Helena | Helena | Montana.
Three Rivers Bank of Montana | Kalispell | Montana.
First Bank of Montana | Lewistown | Montana.
American Bank | Livingston | Montana.
Bitterroot Valley Bank | Lolo | Montana.
Western Bank of Wolf Point | Wolf Point | Montana.
Western Security Bank | Kalispell | Montana.
Chetco Federal Credit Union | Harbor | Oregon.
West Coast Bank | Lake Oswego | Oregon.
PremierWest Bank | Medford | Oregon.
Rogue Federal Credit Union | Medford | Oregon.
First National Bank of Layton | Layton | Utah.
Capital Community Bank | Orem | Utah.
Zions First National Bank | Salt Lake City | Utah.
Anchor Bank | Aberdeen | Washington.
Bank of the Pacific | Aberdeen | Washington.
Whatcom Educational Credit Union | Bellingham | Washington.
Kitsap Credit Union | Bremerton | Washington.
Security State Bank | Centralia | Washington.
North Cascades National Bank | Chelan | Washington.
Wheatland Bank | Davenport | Washington.
Islanders Bank | Friday Harbor | Washington.
1st Security Bank of Washington | Lynnwood | Washington.
Heritage Bank | Olympia | Washington.
South Sound Bank | Olympia | Washington.
HomeStreet Bank | Seattle | Washington.
Sound Community Bank | Seattle | Washington.
Spokane Teachers Credit Union | Spokane | Washington.
Sound Banking Company | Tacoma | Washington.
TAPCO Credit Union | Tacoma | Washington.
Columbia Community Credit Union | Vancouver | Washington.
Banner Bank | Walla Walla | Washington.
Security First Bank | Cheyenne | Wyoming.
First National Bank of Wyoming | Laramie | Wyoming.
First Bank of Wyoming | Powell | Wyoming.
Cowboy State Bank | Ranchester | Wyoming.
Rawlins National Bank | Rawlins | Wyoming.
First State Bank | Wheatland | Wyoming.

II. Public Comments

To encourage the submission of public comments on the community support performance of Bank members, on or before March 27, 2012, each Bank will notify its Advisory Council and nonprofit housing developers, community groups, and other interested parties in its district of the members selected for community support review in the 2010 fifth round review cycle. 12 CFR 1290.2(b)(2)(ii). In reviewing a member for community support compliance, FHFA will consider any public comments it has received concerning the member. 12 CFR 1290.2(d). To ensure consideration by FHFA, comments concerning the community support performance of members selected for the 2010 fifth round review cycle must be delivered to FHFA, either by hard-copy mail at the Federal Housing Finance Agency, Ninth Floor, Housing Mission and Goals (DHMG), 400 Seventh Street SW., Washington, DC 20024, or by electronic mail to hmgcommunitysupportprogram@fhfa.gov on or before the April 27, 2012 deadline for submission of Community Support Statements.

Dated: March 7, 2012.
Edward J. DeMarco,
Acting Director, Federal Housing Finance Agency.

[FR Doc. 2012-5992 Filed 3-12-12; 8:45 am]

BILLING CODE 8070-01-P